ENVIRONMENTAL PROTECTION AGENCY

[FRL-9923-09-OA]

Local Government Advisory Committee: Request for Nominations

AGENCY: Environmental Protection Agency (EPA).

ACTION: Notice of request for nominations.

SUMMARY: The U.S. Environmental Protection Agency (EPA) invites nominations from a diverse range of qualified candidates to be considered for appointment to its Local Government Advisory Committee (LGAC). The LGAC is chartered to provide advice to the EPA Administrator on a broad range of environmental issues affecting local governments. This notice solicits nominations to fill up to twelve (12) vacancies for one or two year terms. To maintain the representation outlined by the charter, nominees will be selected to represent: Large cities; moderate-sized cities; small communities; and townships (under 10,000); county-elected officials-urban, suburban and rural; city-elected and appointed officials; state-elected and appointed officials; and tribal-elected and appointed officials. Vacancies are anticipated to be filled by April 2015. Sources in addition to this Federal Register Notice may be utilized in the solicitation of nominees.

DATES: Nominations should be submitted no later than February 27, 2015.

ADDRESSES: Submit nominations electronically with the subject line “LGAC Membership 2015” to LGAC2015@epa.gov. You may also submit nominations by mail to: M. Frances Eargle, LGAC Designated Federal Officer, Office of Congressional and Intergovernmental Relations (OCIR), U.S. Environmental Protection Agency, 1200 Pennsylvania Avenue NW. (MC1301A), Washington, DC 20460. Non-electronic submissions must follow the same format and contain the same information.

FOR FURTHER INFORMATION CONTACT: M. Frances Eargle, Designated Federal Officer for the LGAC, U.S. EPA; telephone (202) 564-3115; email: eargle.frances@epa.gov.

SUPPLEMENTARY INFORMATION: The LGAC is a federal advisory committee chartered under the Federal Advisory Committee Act (FACA), Public Law 92-463. EPA established the LGAC in 1993 to provide independent advice to the EPA Administrator on a broad range of public health and environmental issues affecting local governments. The LGAC conducts business in accordance with the Federal Advisory Committee Act (FACA) (5 U.S.C. App2) and related regulations.

The Committee consists of approximately 30 members (including a Chairperson) appointed by EPA's Administrator. Members serve as non-federal stakeholders representing: Large cities; moderate-sized cities; small communities; and townships (under 10,000); county-elected officials-urban, suburban and rural; city-elected and appointed officials; state-elected and appointed officials; and tribal-elected and appointed officials. Members are appointed for one or two (1-2) year terms, and eligible for reappointment.

The LGAC usually meets one or two times a year in person. Additionally, members participate in teleconference meetings and serve on Subcommittee and Workgroups to develop recommendations, advice letters and reports to address specific policy issues. The average workload for members is approximately 5 to 8 hours per month. We are unable to provide honoraria or compensation for members services. However, members may receive travel and per diem allowances where appropriate and according to applicable federal travel regulations.

Nominations: The EPA values and welcomes diversity. In an effort to obtain nominations of diverse candidates, the agency encourages nominations of women and men of all racial and ethnic groups. All nominations will be fully considered, but applicants need to be aware of the specific representation sought as outlined in the Summary above. In addition, EPA is seeking nominees with demonstrated local leadership in community sustainability and sustainable development; public health and health disparities; air quality, energy, and climate change; water quality issues; green jobs and economic initiatives; and environmental financing.

Other criteria used to evaluate nominees will include:

• The background and experience that would help members contribute to the diversity of perspectives on the committee (e.g., geographic, economic, social, cultural, educational background, professional affiliations, and other considerations);

• Demonstrated experience as elected and/or appointed official for a local, state or tribal government;

• Demonstrated experience working with officials from other governments or other levels of government (e.g., other local governments, federal agencies);

• Excellent interpersonal and consensus-building skills;

• Ability to volunteer time to attend full committee meetings 1-2 times a year, participate in teleconference meetings, attend listening sessions with the Administrator or other senior-level EPA officials, develop policy recommendations to the Administrator and prepare reports and advice letters; and

• Demonstrated ability to work constructively and effectively on committees. How to Submit Nominations: Any interested person or organization may nominate qualified persons to be considered for appointment to this advisory committee. Individuals may self-nominate. Nominations can be submitted in electronic format (preferred) or in hard copy format (see ADDRESSES section above).

To be considered, all nominations should include:

• Current contact information for the nominee, including the nominee's name, organization (and position within that organization), current business address, email address, and daytime telephone number;

• Brief Statement describing the nominee's interest in serving on the LGAC;

• Resume and a short biography (no more than 2 paragraphs) describing the professional and educational qualifications of the nominee, including a list of relevant activities, and any current or previous service on advisory committees; and

• Letter(s) of recommendation from a third party supporting the nomination. Letter(s) should describe how the nominee's experience and knowledge will bring value to the work of the LGAC.

Other sources, in addition to this Federal Register notice, may be utilized in the solicitation of nominees.

Dated: January 31, 2015.
Frances Eargle,
Designated Federal Officer, Local Government Advisory Committee.

[FR Doc. 2015-03157 Filed 2-12-15; 8:45 am]

BILLING CODE 6560-50-P